DEPARTMENT OF COMMERCE

International Trade Administration

[C-570-980]

Crystalline Silicon Photovoltaic Cells, Whether or Not Assembled Into Modules, From the People's Republic of China: Final Results of Countervailing Duty Administrative Review; 2013

AGENCY: Enforcement and Compliance, International Trade Administration, Department of Commerce.

SUMMARY: The Department of Commerce (the Department) has completed its administrative review of the countervailing duty (CVD) order on crystalline silicon photovoltaic cells, whether or not assembled into modules (solar cells), from the People's Republic of China (the PRC) for the period of review (POR) covering January 1, 2013, through December 31, 2013. On January 8, 2016, we published the preliminary results of this review.¹

¹ See Crystalline Silicon Photovoltaic Cells, Whether or Not Assembled Into Modules, From the People's Republic of China: Preliminary Results of Countervailing Duty Administrative Review; 2013; and Partial Rescission of Countervailing Duty Administrative Review, 81 FR 908 (January 8, 2016) (Preliminary Results).

We provided interested parties with an opportunity to comment on the Preliminary Results. Our analysis of the comments submitted resulted in a change to the net subsidy rates for respondent JA Solar Technology Yangzhou Co., Ltd. and its crossed-owned companies (collectively, JA Solar). The final net subsidy rates are listed below in the section entitled, “Final Results of the Review.”

Withdrawals of certain requests for review were timely filed and, as a result, we rescinded this administrative review with respect to certain companies, pursuant to 19 CFR 351.213(d)(1), and proceeded with the review of JA Solar, Changzhou Trina Solar Energy Co., Ltd. (Trina), and Wuxi Suntech Power Co., Ltd. (Suntech).²

² For a list of the rescinded companies, see Preliminary Results at Appendix II.

DATES: Effective Date: July 19, 2016.

FOR FURTHER INFORMATION CONTACT: David Lindgren, AD/CVD Operations, Office VII, Enforcement and Compliance, International Trade Administration, U.S. Department of Commerce, 14th Street and Constitution Avenue NW., Washington, DC 20230; telephone (202) 482-3870.

SUPPLEMENTARY INFORMATION:

Background

Following the Preliminary Results, the Department conducted verification of the questionnaire responses submitted by the Government of the PRC (the GOC) and JA Solar from March 7 to 18, 2016. The verification reports were released on May 6, 2016.³ We received case briefs from interested parties on May 18, 2016.⁴ On May 31, 2016, interested parties submitted their rebuttal briefs.⁵ No hearing was held in this case as the only hearing requests were withdrawn.⁶

³ See Department Memoranda, “Countervailing Duty Administrative Review of Certain Crystalline Silicon Photovoltaic Cells, Whether or Not Assembled Into Modules, from the People's Republic of China: Verification of the Questionnaire Responses Submitted by the Government of China,” and “Verification of the Questionnaire Responses Submitted by JA Solar Technology Yangzhou Co., Ltd. and its cross-owned companies: Countervailing Duty Second Administrative Review of Certain Crystalline Silicon Photovoltaic Cells, Whether or Not Assembled Into Modules from the People's Republic of China,” both dated May 6, 2016.

⁴ See Letter to the Secretary from the GOC, “GOC Administrative Case Brief: Second Administrative Review of the Countervailing Duty Order on Crystalline Silicon Photovoltaic Cells, Whether or not Assembled into Modules from the People's Republic of China (C-570-980),” and Letter to the Secretary from JA Solar, “Crystalline Silicon Photovoltaic Cells, Whether or Not Assembled into Modules from the People's Republic of China: Case Brief,” both dated May 18, 2016; see also Letter to the Secretary from SolarWorld Americas, Inc. (Petitioner), “Certain Crystalline Silicon Photovoltaic Cells, Whether or Not Assembled into Modules, from the People's Republic of China: Resubmission of SolarWorld Americas, Inc.'s Case Brief,” May 24, 2016.

⁵ See Letter to the Secretary from Petitioner, “Certain Crystalline Silicon Photovoltaic Cells, Whether or Not Assembled into Modules, from the People's Republic of China: Rebuttal Brief of SolarWorld Americas, Inc.,” (May 31, 2016); see also Letter from the GOC, “GOC Rebuttal Brief: Second Administrative Review of the Countervailing Duty Order on Crystalline Silicon Photovoltaic Cells, Whether or not Assembled into Modules from the People's Republic of China (C-570-980),” (May 31, 2016); Letter from JA Solar, “Crystalline Silicon Photovoltaic Cells, Whether or Not Assembled Into Modules, from the People's Republic of China: Rebuttal Brief,” (May 31, 2016).

⁶ See Letter to the Secretary from JA Solar, “Crystalline Silicon Photovoltaic Cells, Whether Or Not Assembled into Modules, From the People's Republic of China: Withdrawal of Hearing Request,” (June 2, 2016); see also Letter to the Secretary from Petitioner, “Certain Crystalline Silicon Photovoltaic Cells, Whether Or Not Assembled into Modules, from the People's Republic of China: Withdrawal of Request for Hearing,” (June 7, 2016).

Scope of the Order

The merchandise covered by this order is crystalline silicon photovoltaic cells, and modules, laminates, and panels, consisting of crystalline silicon photovoltaic cells, whether or not partially or fully assembled into other products, including, but not limited to, modules, laminates, panels and building integrated materials. The product is currently classified under the Harmonized Tariff Schedule of the United States (HTSUS) item numbers 8501.61.0000, 8507.20.80, 8541.40.6020, 8541.40.6030, and 8501.31.8000. These HTSUS subheadings are provided for convenience and customs purposes; the written description of the scope of this order is dispositive. A full description of the scope of the order is contained in the Issues and Decision Memorandum, which is hereby adopted by this notice.⁷

⁷ See Memorandum from Christian Marsh, Deputy Assistant Secretary for Antidumping and Countervailing Duty Operations, to Ronald K. Lorentzen, Acting Assistant Secretary for Enforcement and Compliance, “Issues and Decision Memorandum for the Final Results of the Countervailing Duty Administrative Review of Crystalline Silicon Photovoltaic Cells, Whether or Not Assembled Into Modules, from the People's Republic of China; 2013,” dated concurrently with this notice (Issues and Decision Memorandum).

Analysis of Comments Received

All issues in the case briefs are addressed in the Issues and Decision Memorandum. A list of the issues raised is attached to this notice as Appendix I. The Issues and Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Issues and Decision Memorandum can be accessed directly on the internet at http://www.trade.gov/enforcement/. The signed Issues and Decision Memorandum and the electronic version of the Issues and Decision Memorandum are identical in content.

Methodology

The Department conducted this review in accordance with section 751(a)(1)(A) of the Tariff Act of 1930, as amended (the Act). For each of the subsidy programs found countervailable, we determine that there is a subsidy, i.e., a financial contribution from an “authority” that confers a benefit to the recipient, and that the subsidy is specific.⁸ For a full description of the methodology underlying our conclusions, see the Issues and Decision Memorandum.

⁸ See sections 771(5)(B) and (D) of the Act regarding financial contribution; section 771(5)(E) of the Act regarding benefit; and section 771(5)(A) of the Act regarding specificity.

In making these findings, we relied, in part, on facts available and, because the GOC did not act to the best of its ability in responding to the Department's requests for information, we drew an adverse inference in selecting from among the facts otherwise available.⁹ For further information, see the section, “Use of Facts Otherwise Available and Adverse Inferences,” in the Issues and Decision Memorandum.

⁹ See sections 776(a) and (b) of the Act.

Final Results of the Review

In accordance with 19 CFR 351.221(b)(5), we determine a net countervailable subsidy rate of 19.20 percent ad valorem for JA Solar. Because the only individually calculated rate in the instant review is not zero, de minimis, or based entirely on facts otherwise available, the Department has assigned this rate, calculated for JA Solar, to Trina and Suntech, companies that are subject to this review but were not selected for individual examination in this review.

Company | Subsidy rate (percent)
JA Solar Technology Yangzhou Co., Ltd. and its cross-owned affiliates ¹⁰ | 19.20
Changzhou Trina Solar Energy Co., Ltd | 19.20
Wuxi Suntech Power Co., Ltd | 19.20

Disclosure

¹⁰ Cross-owned affiliates are: Donghai JA Solar Technology Co., Ltd.; Hebei Ningjin Songgong Semiconductor Co., Ltd.; Hebei Ningtong Electronic Materials Co., Ltd.; Hebei Yujing Electronic Science and Technology Co., Ltd.; Hefei JA Solar Technology Co., Ltd.; JA (Hefei) Renewable Energy Co., Ltd.; JA Solar Technology Yangzhou Co., Ltd.; Jing Hai Yang Semiconductor Material (Donghai) Co., Ltd.; JingAo Solar Co., Ltd.; JingLong Industry and Commerce Group Co., Ltd.; Jingwei Electronic Material Co., Ltd.; Ningjin Changlong Electronic Materials Manufacturing Co.; Ningjin County Jingyuan New Energy Investment Co., Ltd.; Ningjin Guiguang Electronic Investment Co., Ltd.; Ningjin Jingfeng Electronic Materials Co., Ltd.; Ningjin Saimei Ganglong Electronic Materials Co., Ltd.; Ningjin Songgong Electronic Materials Co., Ltd.; Ningjing Sunshine New Energy Co., Ltd.; Ninjing Jingxing Electronic Materials Co., Ltd.; Shanghai JA Solar Technology Co., Ltd.; Solar Silicon Valley Electronic Science and Technology Co., Ltd.; Xingtai Jinglong Electronic Materials Co., Ltd.; and, Yangguang Guifeng Electronic Technology Co., Ltd.

In accordance with 19 CFR 351.224(b), we will disclose the calculations performed within five days of the publication of this notice in the Federal Register.

Assessment Rates

In accordance with 19 CFR 351.212(b)(2), the Department intends to issue appropriate assessment instructions directly to U.S. Customs and Border Protection (CBP) 15 days after the date of publication of these final results, to liquidate shipments of subject merchandise by JA Solar, Trina and Suntech entered, or withdrawn from warehouse, for consumption on or after January 1, 2013, through December 31, 2013, at the percent rates, as listed above for each of the respective companies, of the entered value.

Cash Deposit Instructions

The Department also intends to instruct CBP to collect cash deposits of estimated CVDs in the amount shown above for shipments of subject merchandise by JA Solar, Trina and Suntech entered, or withdrawn from warehouse, for consumption on or after the date of publication of the final results of this review.

For non-reviewed firms, we will instruct CBP to collect cash deposits of estimated CVDs at the most recent company-specific or all-others rate applicable to the company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of destruction of APO materials or conversion to judicial protective order is hereby requested. Failure to comply with the regulations and the terms of an APO is a sanctionable violation.

We are issuing and publishing these results in accordance with sections 751(a)(1) and 777(i)(1) of the Act.

Dated: July 12, 2016.
Ronald K. Lorentzen,
Acting Assistant Secretary for Enforcement and Compliance.

Appendix I—List of Topics Discussed in the Issues and Decision Memorandum

I. Summary

II. Period of Review

III. Scope of the Order

IV. Subsidies Valuation Information

V. Benchmarks and Discount Rates

VI. Use of Facts Otherwise Available and Adverse Inferences

VII. Analysis of Programs

VIII. Final Results of Review

IX. Analysis of Comments

Comment 1: Usage of Export Buyer's Credit Program

Comment 2: Selection of AFA Rate for Export Buyer's Credit Program

Comment 3: Specificity of Aluminum Extrusion for LTAR Program

Comment 4: Polysilicon Market Distortions

Comment 5: Polysilicon Benchmark

Comment 6: Solar Glass Benchmark

Comment 7: Ocean Freight Benchmark

Comment 8: Inclusion of VAT in LTAR Benchmarks

Comment 9: Electricity Benchmarks

Comment 10: Electricity Benefit Calculation

Comment 11: Application of Uncreditworthy Discount Rates to Variable Loans

Comment 12: Application of Uncreditworthy Discount Rates to Imported Equipment Purchases

Comment 13: Minor Corrections

X. Recommendation

[FR Doc. 2016-17064 Filed 7-18-16; 8:45 am]

BILLING CODE 3510-DS-P